DEPARTMENT OF DEFENSE

Department of the Army

Notice of Availability of the Draft Mission Environmental Impact Statement (EIS) for Aberdeen Proving Ground (APG), Maryland

AGENCY: Department of the Army, DoD.

ACTION: Notice of availability.

SUMMARY: The Department of the Army announces the availability of the APG Draft Mission EIS for public review and comment. The EIS provides APG and its stakeholders an analysis of the environmental impacts resulting from all reasonably foreseeable future mission activities at APG, located in northeastern Maryland.

DATES: The public comment period will end 45 days after the publication of the notice of availability in the Federal Register by the Environmental Protection Agency.

ADDRESSES: Anyone wishing to receive a copy of the Draft EIS or the EIS Executive Summary may send a postcard or letter with their name and address to: U.S. Army Garrison Aberdeen Proving Ground, Directorate of Safety, Health and Environment, ATTN: AMSSB-GSH-ER (Buddy Keesee), Aberdeen Proving Ground, MD 21005.

FOR FURTHER INFORMATION CONTACT: Buddy Keesee at (410)-278-6755, or via email at buddy.keesee@usag.apg.army.mil.

SUPPLEMENTARY INFORMATION: The Army proposes to provide for the future operation of APG, located in Maryland at the northern end of the Chesapeake Bay. APG is composed of two principal areas separated by the Bush River: the Aberdeen Area situated north of the river and the Edgewood Area to the south. Three alternatives have been identified and assessed for the future operation of APG: (1) Alternative A: future planned activities plus mitigation alternative (proposed action), (2) Alternative B: future planned activities alternative, and (3) Alternative C: no action alternative. The future planned activities plus mitigation alternative (Alternative A) would provide for the Army's future operation of APG through the adoption of a comprehensive environmental baseline assessment of APG mission activities for use in environmental manage-ment decision-making, to include the analysis of cumulative effects, as well as the implementation of a mitigation program to nullify any potential adverse impacts of all reasonable foreseeable future mission activities. Alternative A is distinct from the other alternatives as it represents a comprehensive approach to the management of the APG environment. The future planned activities alternative (Alternative B) would encompass all reasonable foreseeable future mission activities. However, individual actions requiring National Environmental Policy Act documentation would be implemented piecemeal and a means for comprehensive environmental management, including a current environmental baseline, would not be established. The no action alternative (Alternative C) is defined as the continuation of current ongoing mission activities at approximately the same levels, intensities, rates, and conditions as they currently exist (i.e., status quo). Under no action, the baseline established by the 1978 installation-wide EIS would be the only comprehensive point of reference for the analysis of environmental effects, including cumulative effects. Mitigation measures would be implemented on a project-by-project basis.

The analysis in the Draft Mission EIS indicates that no significant adverse impacts that cannot be avoided, minimized, or mitigated are anticipated to occur under the proposed action (Alternative A) or the no action alternative (Alternative C). Although there is an opportunity to mitigate future adverse impacts under the proposed action and current adverse impacts under the no action alternative, there is a fundamental difference in the approach. Under the proposed action, a means for comprehensive environmental management, including a current environmental baseline, would be established. Mitigation may be applied comprehensively within this context. In the case of the no action alternative, environmental consideration and documentation will be performed on a prpoject-by-project basis with the baseline established by the 1978 installation-wide EIS. A comprehensive mitigation program would not be implemented.

When requesting copies of the EIS, please specify whether you wish to receive only the Executive Summary or the full document including the appendices.

Comments received after the 45-day comment period will be considered to the extent practicable. The Army will use the comments received to help prepare the the APG Final Mission EIS. Public information meetings on the Draft EIS will be held in Harford, Baltimore and Kent Counties in Maryland. The meetings will provide opportunities for information exchange and discussion among members of the Army, APG, and the public. Exact dates and locations will be advertised in the local media at least 15 days prior to the meetings. Additional information on the public meetings can also be obtained from the DPG Public Affairs Office at (410) 278-1147.

Persons and organizations wishing to comment on the Draft EIS may attend the public meetings or may send written comments to: Commander, U.S. Army Garrison Aberdeen Proving Ground, ATTN: AMSSB-GSH-ER (Draft APG EIS), Aberdeen Proving Ground, MD 21005.

The full Draft EIS and EIS Executive Summary will be available at the following public reading rooms: Harford County Library (Aberdeen Branch), 21 Franklin Street, Aberdeen; Harford County Library (Edgewood Branch), 2205 Hanson Road, Edgewood; Kent County Public Library, 408 High Street, Chestertown. Copies at the public reading rooms are for review purposes only and extra copies of the documents will not be available at these locations.

Dated: December 2, 2002.
Raymond J. Fatz,
Deputy Assistant Secretary of the Army, (Environment, Safety and Occupational Health), OASA (I&E).

[FR Doc. 02-31137 Filed 12-9-02; 8:45 am]

BILLING CODE 3710-08-M